DEPARTMENT OF DEFENSE

Department of the Army

Performance Review Boards Membership

AGENCY: Department of the Army, DoD.

ACTION: Notice.

SUMMARY: Notice is given of the names of members of a Performance Review Board for the Department of the Army.

EFFECTIVE DATE: September 14, 2001.

FOR FURTHER INFORMATION CONTACT: David Stokes, U.S. Army Senior Executive Service Office, Assistant Secretary of the Army, Manpower & Reserve Affairs, 111 Army, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives. The members of the Performance Review Board for the US NATO Field Element (Army) are:

1. Mr. Sal Manno, Director of International Affairs, Office of the Secretary of Defense.

2. Mr. Al Volkman, Director, OUSD/AT&L Intl Programs Office of the Secretary of Defense.

3. Mr. Leo Michel, Director, NATO Policy, Office of the Secretary of Defense.

4. Mr. Pete Verga, Deputy Under Secretary of Defense for Policy Integration, Office of the Secretary of Defense.

Luz D. Ortiz,
Army Federal Register Liaison Officer.

[FR Doc. 01-23519 Filed 9-19-01; 8:45 am]

BILLING CODE 3710-08-M